CORPORATION FOR NATIONAL AND COMMUNITY SERVICE

Sunshine Act Notice

The Board of Directors of the Corporation for National and Community Service gives notice of the following meeting:

DATE AND TIME: Friday, June 24, 2016, 10:00 a.m.-11:30 p.m. (ET).

PLACE: Corporation for National and Community Service, 250 E Street SW., Suite 4026, Washington, DC 20525 (Please go to the first floor lobby reception area for escort).

CALL-IN INFORMATION: This meeting is available to the public through the following toll-free call-in number: 888-469-1929 conference call access code number 9799199. Any interested member of the public may call this number and listen to the meeting. Callers can expect to incur charges for calls they initiate over wireless lines, and CNCS will not refund any incurred charges. Callers will incur no charge for calls they initiate over land-line connections to the toll-free telephone number. Replays are generally available one hour after a call ends. The toll-free phone number for the replay is 888-397-5639. TTY: 800-833-3722. The end replay date is August 24, 2016 at 10:59 p.m. (CT).

STATUS: Open.

MATTERS TO BE CONSIDERED:

I. Chair's Remarks

II. CEO Report

III. Presentation—Star of Service

IV. Public Comments

V. Final Comments and Adjournment

Members of the public who would like to comment on the business of the Board may do so in writing or in person. Individuals may submit written comments to dpremo@cns.gov subject line: JUNE 2016 CNCS BOARD MEETING by 4:00 p.m. (ET) on June 20, 2016. Individuals attending the meeting in person who would like to comment will be asked to sign-in upon arrival. Comments are requested to be limited to 2 minutes.

REASONABLE ACCOMMODATIONS: The Corporation for National and Community Service provides reasonable accommodations to individuals with disabilities where appropriate. Anyone who needs an interpreter or other accommodation should notify David Premo at dpremo@cns.gov or 202-606-6717 by 5 p.m. (ET) on June 17, 2016.

CONTACT PERSON FOR MORE INFORMATION: Dave Premo, Program Support Specialist, Corporation for National and Community Service, 250 E Street SW., Washington, DC 20525. Phone: 202-606-6717. Fax: 202-606-3460. TTY: 800-833-3722. Email: dpremo@cns.gov.

Dated: June 13, 2016.
Jeremy Joseph,
General Counsel.

[FR Doc. 2016-14367 Filed 6-14-16; 4:15 pm]

BILLING CODE 6050-28-P